DEPARTMENT OF HEALTH AND HUMAN SERVICES

National Institutes of Health

National Institute on Aging; Amended Notice of Meeting

Notice is hereby given of a change in the meeting of the National Advisory Council on Aging, January 28, 2026, 10:00 a.m. to January 29, 2026, 05:00 p.m., 5601 Fisher's Lane, Rockville, MD 20852 which was published in the Federal Register on November 19, 2025, 90 FR 52081.

Meeting changed from a two-day to a one-day meeting. New meeting date is set for January 27, 2026. The meeting is virtual, partially Closed to the public.

Dated: December 16, 2025.
Margaret N. Vardanian,
Program Analyst, Office of Federal Advisory Committee Policy.

[FR Doc. 2025-23320 Filed 12-18-25; 8:45 am]

BILLING CODE 4140-01-P